DEPARTMENT OF COMMERCE

Foreign-Trade Zones Board

[B-51-2012]

Foreign-Trade Zone 32—Miami, FL; Application for Reorganization Under Alternative Site Framework

An application has been submitted to the Foreign-Trade Zones (FTZ) Board (the Board) by the Greater Miami Foreign-Trade Zone, Inc., grantee of FTZ 32, requesting authority to reorganize the zone under the alternative site framework (ASF) adopted by the Board (15 CFR Sec. 400.2(c)). The ASF is an option for grantees for the establishment or reorganization of general-purpose zones and can permit significantly greater flexibility in the designation of new subzones or “usage-driven” FTZ sites for operators/users located within a grantee's “service area” in the context of the Board's standard 2,000-acre activation limit for a general-purpose zone project. The application was submitted pursuant to the Foreign-Trade Zones Act, as amended (19 U.S.C. 81a-81u), and the regulations of the Board (15 CFR part 400). It was formally filed on July 13, 2012.

FTZ 32 was approved on September 6, 1977 (Board Order 123, 42 FR 46568, 09/16/77) and expanded on March 3, 1982 (Board Order 184, 47 FR 10612, 03/11/82), on March 20, 1990 (Board Order 466, 55 FR 11631, 03/29/90), and on March 13, 2007 (Board Order 1507, 72 FR 13080, 03/20/07). The current zone project includes the following sites: Site 1 (70.5 acres)—warehouse and exhibition center, located at NW 25th Street and 107th Avenue, Miami; Site 2 (205 acres)—Beacon Centre Development complex, located north of NW 12th Street and east of 87th Avenue, Miami; Site 3 (49 acres)—Sysco Food Service warehouse, 12500 NW 112th Avenue, Medley; and, Site 4 (2.5 acres, expires 9/30/2013)—Kansas Marine warehouse, 555 NE 185th Street, Miami.

The grantee's proposed service area under the ASF would be the portion of Miami-Dade County located north of State Road 836 (Dolphin Expressway) and south of US-27 (SW Okeechobee Road) and west of State Road 969 (Milam Dairy Road and West 72nd Avenue) to State Road 825 (NW 137th Avenue). If approved, the grantee would be able to serve sites throughout the service area based on companies' needs for FTZ designation. The proposed service area is within the Miami Customs and Border Protection port of entry. The grantee proposes to retain existing Site 4 which is located outside of the proposed service area.

The applicant is requesting authority to reorganize its existing zone project to include Sites 1 and 2 as “magnet” sites and Sites 3 and 4 as “usage-driven” sites. The ASF allows for the possible exemption of one magnet site from the “sunset” time limits that generally apply to sites under the ASF, and the applicant proposes that Site 1 be so exempted.

In accordance with the Board's regulations, Camille Evans of the FTZ Staff is designated examiner to evaluate and analyze the facts and information presented in the application and case record and to report findings and recommendations to the Board.

Public comment is invited from interested parties. Submissions shall be addressed to the Board's Executive Secretary at the address below. The closing period for their receipt is September 21, 2012. Rebuttal comments in response to material submitted during the foregoing period may be submitted during the subsequent 15-day period to October 9, 2012.

A copy of the application will be available for public inspection at the Office of the Executive Secretary, Foreign-Trade Zones Board, Room 2111, U.S. Department of Commerce, 1401 Constitution Avenue NW., Washington, DC 20230-0002, and in the “Reading Room” section of the Board's Web site, which is accessible via www.trade.gov/ftz. For further information, contact Camille Evans at Camille.Evans@trade.gov or (202) 482-2350.

Dated: July 13, 2012.
Andrew McGilvray,
Executive Secretary.

[FR Doc. 2012-17927 Filed 7-20-12; 8:45 am]

BILLING CODE P